SOCIAL SECURITY ADMINISTRATION

[Docket No: SSA-2020-0024]

Agency Information Collection Activities: Proposed Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov

(SSA) Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2020-0024].

The information collections below are pending at SSA. SSA will submit them to OMB within 60 days from the date of this notice. To be sure we consider your comments, we must receive them no later than August 4, 2020. Individuals can obtain copies of the collection instruments by writing to the above email address.

1. Statement Regarding Marriage—20 CFR 404.726—0960-0017. Section 216(h)(1)(A) of the Social Security Act (Act) directs SSA to apply State law to determine an individual's marital relationship. Some state laws recognize marriages without a ceremony (i.e., common-law marriages). In such cases, SSA provides the same spouse or widow(er) benefits to the common-law spouses as it does to ceremonially married spouses. To determine common-law spouses, SSA must elicit information from blood relatives or other persons who are knowledgeable about the alleged common-law relationship. SSA uses Form SSA-753, Statement Regarding Marriage, to collect information from third parties to verify the applicant's statements about intent; cohabitation; and holding out to the public as married, which are the basic tenets of a common-law marriage. SSA uses the information to determine if a valid marital relationship exists, and if the common-law spouse is entitled to Social Security spouse, or widow(er) benefits. The respondents are third parties who can confirm or deny the alleged common-law marriage.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-753 | 40,000 | 1 | 9 | 6,000 | $25.72 * | 24 ** | $565,840 ***
* We based this figures on average U.S. citizen's hourly salary, as reported by Bureau of Labor Statistics data (https://www.bls.gov/oes/ current/oes_stru.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

2. Statement of Agricultural Employer (Year Prior to 1988; and 1988 and later)—20 CFR 404.702, 404.802, 404.1056—0960-0036. If agricultural workers believe their employers (1) did not report their wages, or (2) reported incorrect wage amounts, SSA will assist them in resolving this issue. Specifically, SSA will send Form SSA-1002 or Form SSA-1003 to the agricultural employers to collect evidence of wages paid. The respondents are agricultural employers whose workers request wage verification or correction for their earnings records.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-1002 | 7,500 | 1 | 30 | 3,750 | * $12.52 | ** 24 | *** $84,510
SSA-1003 | 25,000 | 1 | 30 | 12,500 | * 12.52 | ** 24 | *** 219,100
Total | 32,500 |  |  | 16,250 |  |  | *** 303,610
* We based this figures on average Agricultural Workers hourly salary, as reported by Bureau of Labor Statistics data (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

3. Questionnaire About Employment or Self-Employment Outside the United States—20 CFR 404.401(b)(1), 404.415, & 404.417—0960-0050. When a Social Security beneficiary or claimant reports work outside the U.S., SSA uses Form SSA-7163 to determine if foreign work deductions are applicable. Specifically, SSA uses Form SSA-7163 to determine: (1) Whether work performed by beneficiaries outside the U.S. is cause for deductions from their monthly benefits; (2) which of two work tests (foreign or regular test) is applicable; and (3) the number of months, if any, for SSA-imposed deductions. SSA determines whether the annual earnings test applies to all earnings from work covered by the Act, including earnings from covered work performed outside the U.S. However, because of the differences in foreign currency values, it is administratively impractical to apply this test to earnings from non-covered work performed outside the U.S. and base it on U.S. dollars. So, the 45-hour work test provides for deductions from the benefits of employees under full retirement age who engage in non-covered remunerative activity for more than 45 hours in a calendar month. SSA asks beneficiaries working outside the U.S. to complete this form annually or every other year (depending on the country of residence). Respondents are beneficiaries or claimants for Social Security benefits who are engaged in work outside the United States.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-7163 | 20,000 | 1 | 60 | 20,000 | $10.22 * | 24 ** | $286,160 ***
* We based these figures on average DI hourly wages based on SSA's current FY 2019 data (https://www.ssa.gov/legislation/2019%20Fact%20Sheet.pdf).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

4. Internet Representative Payee Accounting, My Representative Payee Accounting, Representative Payee Report-Adult, Representative Payee Report-Child, and Representative Payee Report-Organizational Representative Payees—20 CFR 404.2035, 404.2065, 416.635, and 416.665—0960-0068. When SSA determines it is not in an Old-Age, Survivors, and Disability Insurance (OASDI) or Supplemental Security Income (SSI) recipient's best interest to receive Social Security payments directly, the agency will designate a representative payee for the recipient. The representative payee can be: (1) A family member; (2) a non-family member who is a private citizen and is acquainted with the beneficiary; (3) an organization; (4) a state or local government agency; or (5) a business. In the capacity of representative payee, the person or organization receives the SSA recipient's payments directly and manages these payments. As part of its stewardship mandate, SSA must ensure the representative payees are properly using the payments they receive for the recipients they represent. The agency annually collects the information necessary to make this assessment using Form SSA-623, Representative Payee Report-Adult; Form SSA-6230, Representative Payee Report-Child; Form SSA-6234, Representative Payee Report-Organizational Representative Payees; and through the electronic internet applications, internet Representative Payee Accounting (iRPA) & My Representative Payee Accounting (MyRPA). The respondents are representative payees of OASDI and SSI recipients.

Type of Request: Revision to an OMB-approved information collection.

Modality of completion | Number of respondents | Frequency of response | Average burden per response (minutes) | Estimated total annual burden (hours) | Average theoretical hourly cost amount (dollars) * | Average wait time in field office (minutes) ** | Total annual opportunity cost (dollars) ***
SSA-623 | 1,086,152 | 1 | 15 | 271,538 | * $10.22 | ** 24 | *** $7,215,310
SSA-6230 | 97,196 | 1 | 15 | 24,299 | * 10.22 | ** 24 | *** 645,669
SSA-6234 | 497,505 | 1 | 15 | 124,376 | * 10.22 | ** 24 | *** 3,304,923
iRPA+ | 290,253 | 1 | 15 | 72,563 | * 10.22 |  | *** 741,594
myRPA+ | 70,021 | 1 | 15 | 17,505 | * 10.22 |  | *** 178,901
Totals | 2,041,127 |  |  | 510,281 |  |  | *** 12,086,397
+ All forms (SSA-623, SSA-6230, & SSA-6234) can also be accessed via the internet platforms, iRPA and myRPA.
* We based these figures on average DI hourly wages based on SSA's current FY 2019 data (https://www.ssa.gov/legislation/2019%20Fact%20Sheet.pdf).
** We based this figure on the average FY 2020 wait times for field offices, based on SSA's current management information data.
** This figure does not represent actual costs that SSA is imposing on recipients of Social Security payments to complete this application; rather, these are theoretical opportunity costs for the additional time respondents will spend to complete the application. There is no actual charge to respondents to complete the application.

5. Student Reporting Form—20 CFR 404.352(b)(2), 404.367, 404.368, 404.415, 404.434, & 422.135—0960—0088. To qualify for Social Security Title II student benefits, student beneficiaries must be in full-time attendance status at an educational institution. In addition, SSA requires these beneficiaries to report events that may cause a reduction, termination, or suspension of their benefits. SSA collects such information on Forms SSA-1383 and SSA-1383-FC to determine if the changes or events the student beneficiaries report will affect their continuing entitlement to SSA benefits. SSA also uses the SSA-1383 and SSA-1383-FC to calculate the correct benefit amounts for student beneficiaries. The respondents are Social Security Title II student beneficiaries.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-1383 | 75,000 | 1 | 6 | 7,500 | * $7.25 | ** 24 | *** $271,875
SSA-1383-FC | 805 | 1 | 6 | 81 | * 7.25 | ** 24 | *** 2,922
Totals | 75,805 |  |  | 7,581 |  |  | *** 274,797
* We based this figure on the Federal minimum hourly wage, as reported by Bureau of Labor Statistics data (https://www.bls.gov/opub/reports/minimum-wage/2019/home.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

6. Advanced Notice of Termination of Child's Benefits & Student's Statement Regarding School Attendance—20 CFR 404.350-404.352, 404.367-404.368—0960-0105. SSA collects information on Forms SSA-1372-BK and SSA-1372-BK-FC to determine whether children of an insured worker meet the eligibility requirements for student benefits. The data we collect allows SSA to determine student entitlement, and assess whether to terminate benefits. SSA uses the SSA-1372-BK for domestic student claimants and the SSA-1372-BK-FC for student claimants living and attending school outside the United States. The respondents are student claimants or beneficiaries for Social Security benefits, their respective schools and, in some cases, their representative payees.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
Individuals/Households (SSA-1372-BK) | 233,179 | 1 | 8 | 31,091 | * $7.50 | ** 24 | *** $932,723
State/Local/Tribal Government (SSA-1372-BK) | 233,179 | 1 | 3 | 11,659 | * 47.54 | ** 24 | *** 4,988,420
Individuals/Households (SSA-1372-BK-FC) | 746 | 1 | 8 | 99 | * 7.50 | ** 24 | *** 2,978
State/Local/Tribal Government (SSA-1372-BK-FC) | 746 | 1 | 3 | 37 | * 47.54 | ** 24 | *** 15,926
Total | 467,850 |  |  | 42,886 |  |  | *** 5,940,047
* We based these figures on average DI hourly wages for single students based on SSA's current FY 2019 data (https://www.ssa.gov/ legislation/2019%20Fact%20Sheet.pdf), and the BLS.gov data for School Worker's hourly wages (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

7. Modified Benefit Formula Questionnaire—0960-0395. SSA collects information on Form SSA-150 to determine which formula to use in computing the Social Security benefit for someone who receives a pension from employment not covered by Social Security. The Windfall Elimination Provision (WEP) requires use of a benefit formula replacing a smaller percentage of a worker's pre-retirement earnings. However, the resulting amount cannot show a difference in the benefit computed using the modified and regular formulas greater than one-half the amount of the pension received in the first month an individual is entitled to both the pension and the Social Security benefit. The SSA-150 collects the information needed to make the necessary benefit computations. SSA requires the respondents to furnish the information on Form SSA-150 so we can calculate their benefits using the data they supply. SSA calculates the benefits of applicants who do not respond to this questionnaire using the full WEP reduction. SSA employees collect this information once from applicants at the time they file their claim. The respondents are applicants for old-age and disability benefits.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-150 | 21,540 | 1 | 8 | 2,872 | $10.22 * | 24 ** | $117,407
* We based this figure on average DI payments based on SSA's current FY 2019 data (https://www.ssa.gov/legislation/2019%20Fact%20Sheet.pdf).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

8. Employee Work Activity Questionnaire—20 CFR 404.1574(a)—0960-0483. Social Security Disability Insurance (SSDI) beneficiaries and SSI recipients qualify for payments when a verified physical or mental impairment prevents them from working. If disability claimants attempt to return to work after receiving payments, but are unable to continue working, they submit Form SSA-3033, Employee Work Activity Questionnaire, so SSA can evaluate their work attempt. SSA also uses this form to evaluate unsuccessful subsidy work and determine applicants' continuing eligibility for disability payments. The respondents are employers of SSDI beneficiaries and SSI recipients who unsuccessfully attempted to return to work.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-3033 | 15,000 | 1 | 15 | 3,750 | $59.15 * | 24 ** | $576,712 ***
* We based this figure on average general and operations manager's hourly salary, as reported by Bureau of Labor Statistics data (https://www.bls.gov/oes/current/oes111021.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

9. Sheltered Workshop Wage Reporting—0960-0771. Sheltered workshops are private non-profit organizations, or institutions, that implement a recognized program of rehabilitation for handicapped workers, or provide such workers with remunerative employment, or other occupational rehabilitating activity of an educational or therapeutic nature. Sheltered workshops perform a service for their clients by reporting monthly wages directly to SSA. SSA uses the information these workshops provide to verify and post monthly wages to SSI recipient's records. Most workshops report monthly wage totals to their local SSA office so we can adjust the client's SSI payment amount in a timely manner, and prevent overpayments. Sheltered workshops are motivated to report wages voluntarily as a service to their clients. Respondents are sheltered workshops that report monthly wages for services performed in the workshop.

Modality of completion | Number of respondents | Frequency of response | Average burden per response (minutes) | Estimated total annual burden (hours) | Average theoretical hourly cost amount (dollars) * | Average wait time in field office (minutes) ** | Total annual opportunity cost (dollars) ***
Sheltered Workshop Wage Reporting | 800 | 12 | 9,600 | 15 | 2,400 | $19.31 * | 24 **
** We based this figure on average Rehabilitation Counselors hourly salary, as reported by Bureau of Labor Statistics data (https://www.bls.gov/oes/current/oes211015.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

Type of Request: Revision of an OMB-approved information collection.

Dated: June 1, 2020.
Naomi Sipple,
Reports Clearance Officer, Social Security Administration.

[FR Doc. 2020-12147 Filed 6-4-20; 8:45 am]

BILLING CODE 4191-02-P